ENVIRONMENTAL PROTECTION AGENCY

[FRL-9916-77-OW]

Information Session; Stakeholder Input on Implementation of the Water Infrastructure Finance and Innovation Act of 2014

AGENCY: Environmental Protection Agency.

ACTION: Notice.

SUMMARY: The Environmental Protection Agency (EPA) is announcing plans to hold an information and stakeholder input session on September 22, 2014 in New York City, New York to discuss implementation of the “Water Infrastructure Finance and Innovation Act of 2014” (WIFIA). A second session will be held on September 23, 2014 in New York City if registration for the first day exceeds room capacity. Additional information and stakeholder input sessions will be held in locations around the country through December, 2014. Locations and dates for the additional sessions will be announced when they become available.

WIFIA is an innovative financing mechanism for water-related infrastructure of national or regional significance. It was signed into law on June 11, 2014 as Public Law 113-121. EPA will be providing an overview of the statute, assistance options and terms, and ideas for implementing the program. EPA would like participants to discuss project ideas and potential selection criteria; opportunities, challenges, and questions about implementation; and future stakeholder engagement. The intended audience is municipal, state, and regional utility decision makers; private finance sector representatives; and other interested organizations and parties.

DATES: The session will be held on September 22, 2014, with a possible additional session on September 23, 2014, if necessary.

ADDRESSES: The session will be held at: EPA Region 2, Room 27A, 27th Floor, 290 Broadway, New York City, NY 10007.

FOR FURTHER INFORMATION CONTACT: For further information about this notice, including registration information, contact Jordan Dorfman, EPA Headquarters, Office of Water, Office of Wastewater Management at tel.: 202-564-0614 or email: WIFIA@epa.gov. Members of the public are invited to participate in the session as capacity allows.

Authority: Water Infrastructure Finance and Innovation Act, Public Law 113-121.

Dated: September 10, 2014.
Andrew D. Sawyers,
Director, Office of Wastewater Management.

[FR Doc. 2014-22157 Filed 9-16-14; 8:45 am]

BILLING CODE 6560-50-P